DEPARTMENT OF DEFENSE

Department of the Army, Corps of Engineers

33 CFR Part 385

RIN 0710-AA49

Programmatic Regulations for the Comprehensive Everglades Restoration Plan

AGENCY: Army Corps of Engineers, DOD.

ACTION: Notice of public meeting.

SUMMARY: The Council on Environmental Quality will host a public meeting for stakeholders to clarify and respond to comments filed on the proposed rule to establish programmatic regulations for the Comprehensive Everglades Restoration Plan. Congress approved the Comprehensive Everglades Restoration Plan in section 601 of the Water Resources Development Act of 2000, Public Law 106-541, 114 Stat. 2680, which was enacted into law on December 11, 2000. The Act requires the Secretary of the Army to promulgate programmatic regulations, with the concurrence of the Secretary of the Interior and the Governor of Florida, to ensure that the goals and purposes of the Comprehensive Everglades Restoration Plan are achieved.

DATES: The public meeting will take place on February 6, 2003, from 1 to 5 pm.

ADDRESSES: The meeting will be held at the Council on Environmental Quality, White House Conference Center, Truman Room, 3rd Floor, 726 Jackson Place, Washington, DC.

FOR FURTHER INFORMATION CONTACT: Stu Appelbaum, Corps of Engineers, Jacksonville District, P.O. Box 4970, Jacksonville, Florida 32232-0019, phone (904) 232-1877; fax (904) 232-1434.

SUPPLEMENTARY INFORMATION: On August 2, 2002 the Army published the proposed rule to establish the programmatic regulations in the Federal Register (67 FR 50540). The public comment period on the proposed rule closed on October 1, 2002. The proposed regulations establish processes and procedures that will guide the Army Corps of Engineers and its partners in the implementation of the Comprehensive Everglades Restoration Plan. The purpose of the public meeting is to provide an opportunity for stakeholders to clarify and respond to comments filed on the proposed rule. Representatives of the Army (the rule writing agency), the Department of the Interior and State of Florida (from whom concurrence on the final rule is required by statute) and other Federal agencies who will likely participate in the interagency review of the rule under Executive Order 12866 will be in attendance to listen to stakeholder views. The meeting will be facilitated by the Council on Environmental Quality.

Authority: Section 601, Public Law 106-541, 114 Stat. 2680; 10 U.S.C. 3013(g)(3); 33 U.S.C. 1 and 701; and 5 U.S.C. 301.

Dated: January 31, 2003.
George S. Dunlop,
Deputy Assistant Secretary of the Army, Department of the Army.

[FR Doc. 03-2776 Filed 2-4-03; 8:45 am]

BILLING CODE 3710-92-P